BUREAU OF CONSUMER FINANCIAL PROTECTION

Proposed Collection; Comment Request

AGENCY: Bureau of Consumer Financial Protection.

ACTION: Notice and request for comment.

SUMMARY: The Bureau of Consumer Financial Protection (Bureau or CFPB), as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau is soliciting comments concerning the information collection efforts relating to the Office of Intergovernmental Affairs Outreach Activities.

DATES: Written comments are encouraged and must be received on or before June 29, 2012 to be assured of consideration.

ADDRESSES: You may submit comments by any of the following methods:

• Electronic: CFPB_Public_PRA@cfpb.gov.

• Mail/Hand Delivery/Courier: Direct all written comments to Consumer Financial Protection Bureau, (Attention: PRA Office), 1700 G Street NW., Washington, DC 20552. Instructions: All submission should include agency name and proposed collection title. Comments will be available for public inspection and copying at 1700 G Street NW., Washington, DC 20552 on official business days between the hours of 10 a.m. and 5 p.m. Eastern Time. You can make an appointment to inspect comments by telephoning (202) 435-7275. All comments, including attachments and other supporting materials, will become part of the public record and subject to public disclosure. You should only submit information that you wish to make available publicly.

FOR FURTHER INFORMATION CONTACT: Requests for additional information or copies of the documents contained under this approval number should be directed to R. Joseph Durbala, (202) 435-7893, at the Consumer Financial Protection Bureau, (Attention: PRA Office), 1700 G Street NW., Washington, DC 20552, or through the internet at CFPB_Public_PRA@cfpb.gov.

SUPPLEMENTARY INFORMATION: Title: CFPB Office of Intergovernmental Affairs Outreach Activities.

OMB Number: 3170-XXXX.

Abstract: The Dodd-Frank Wall Street Reform and Consumer Protection Act (“Dodd-Frank Act”) contemplates that the Bureau will conduct outreach activities, as appropriate. See, e.g., 12 U.S.C. 5495; 12 U.S.C. 5512(c)(1), 12 U.S.C. 5493(d), 12 U.S.C. 5493(b)(2), 12 U.S.C. 5511(c)(6). The Bureau's Office of Intergovernmental Affairs seeks to conduct outreach by collecting information from state, local, and tribal governments related to the Bureau's exercise of its functions under the Dodd Frank Act. These governments interact closely with consumers and are critical partners in promoting transparency and competition in the marketplace, preventing unfair and unlawfully discriminatory practices, and enforcing consumer financial laws. The information collected through the Office of Intergovernmental Affairs Outreach Activities will be shared, as appropriate, within the Bureau in the exercise of its functions, such as the Bureau's financial education, rulemaking, market monitoring, outreach to traditionally underserved populations, fair lending monitoring, supervision, and enforcement functions.

The information collected may be used to form policies and programs presented to state, local, and tribal governments, as well as to other federal agencies and the general public. Nearly all information collection will involve the use of electronic communication or other forms of information technology and telephonic means.

Current Actions: Request for new approval of collection activities.

Type of Review: New collection.

Affected Public: State, Local, or Tribal Governments.

Estimated Number of Responses: 1,600.

Estimated Time per Respondent: 2 hours.

Estimated Total Annual Burden Hours: 3,200.

An agency may not conduct or sponsor, and a person is not required to respond to, a collection of information unless the collection of information displays a valid OMB control number.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information, including the validity of the methodology and the assumptions used; (c) ways to enhance the quality, utility, and clarity of the information to be collected; and (d) ways to minimize the burden of the collection of information on respondents, including through the use of automated collection techniques or other forms of information technology.

Dated: April 24, 2012,
Chris Willey,
Chief Information Officer, Bureau of Consumer Financial Protection.

[FR Doc. 2012-10288 Filed 4-27-12; 8:45 am]

BILLING CODE 4810-AM-P